PEACE CORPS

Information Collection Request Submission for OMB Review; Reopening of Comment Period

AGENCY: Peace Corps.

ACTION: Notice; reopening of comment period.

SUMMARY: The Peace Corps published a document in the Federal Register of December 7, 2020, concerning request for comments on an information collection request submission for OMB Review. The purpose of this notice is to reopen the document comment period.

DATES: The comment period for the notice published December 7, 2020, at 85 FR 78886, is reopened. Submit comments on or before March 19, 2021.

ADDRESSES: Address written comments and recommendations for the proposed information collection to Virginia Burke, FOIA/Privacy Act Officer, by email at pcfr@peacecorps.gov. Email comments must be made in text and not in attachments.

FOR FURTHER INFORMATION CONTACT: Virginia Burke, 202-692-1887.

SUPPLEMENTARY INFORMATION: In FR Doc. 2020-26808, published at 85 FR 78886 on December 7, 2020, the notice gave a 30-day comment period that closed on January 6, 2021, but the comment period should have been 60 days. The Peace Corps is reopening the comment period to provide an additional 30 days of comments.

This notice is issued in Washington, DC, on February 9, 2021.
Virginia Burke,
FOIA/Privacy Act Officer, Management.

[FR Doc. 2021-03079 Filed 2-16-21; 8:45 am]

BILLING CODE 6051-01-P